DEPARTMENT OF THE INTERIOR

Bureau of Land Management

[F-21901-33, F-21901-34, F-21901-35, F-21901-71, F-21904-39, F-21904-40, F-21904-42, F-21904-43, F-21904-44, F-21904-46, F-21904-47, F-21904-48, F-21904-76, F-21904-77, F-21904-78, F-21904-83, F-21904-93, F-21905-62, F-21905-74, F-21905-76, F-21905-78, F-21905-79; 212X.LLAK.944000.L14100000.HY0000-P]

Alaska Native Claims Selection

AGENCY: Bureau of Land Management, Interior.

ACTION: Notice of decision approving lands for conveyance.

SUMMARY: The Bureau of Land Management (BLM) hereby provides constructive notice that the decision approving lands for conveyance to Doyon, Limited, published in the Federal Register on March 11, 2009, will be modified to add one trail easement and to modify another trail easement to be reserved to the United States pursuant to Sec. 17(b) of ANCSA.

DATES: Any party claiming a property interest in the lands by this decision may appeal the decision in accordance with the requirements of 43 CFR part 4 within the time limits set out in the SUPPLEMENTARY INFORMATION section.

ADDRESSES: You may obtain a copy of the decision from the BLM, Alaska State Office, 222 West Seventh Avenue, #13, Anchorage, AK 99513-7504.

FOR FURTHER INFORMATION CONTACT: Matthew R. Lux, BLM Alaska State Office, 907-271-3176, or mlux@blm.gov. Persons who use a Telecommunications Device for the Deaf (TDD) may call the Federal Relay Service (FRS) at 1-800-877-8339 to contact the above individual. The FRS is available 24 hours a day, 7 days a week. You will receive a reply during normal business hours.

SUPPLEMENTARY INFORMATION: As required by 43 CFR 2650.7(d), notice is hereby given that the decision approving lands for conveyance to Doyon, Limited, published in the Federal Register on March 11, 2009, (74 FR 10609), will be modified to add one trail easement and to modify another trail easement to be reserved to the United States pursuant to Sec. 17(b) of ANCSA (43 U.S.C. 1616(b)).

The BLM will publish notice of the decision once a week for four consecutive weeks in the “Fairbanks Daily News-Miner”.

Any party claiming a property interest in the lands affected by the decision may appeal the decision in accordance with the requirements of 43 CFR part 4 within the following time limits:

1. Unknown parties, parties unable to be located after reasonable efforts have been expended to locate, parties who fail or refuse to sign their return receipt and parties who receive a copy of the decision by regular mail, which is not certified, return receipt requested, shall have until July 19, 2021 to file an appeal.

2. Parties receiving service of the decision by certified mail shall have 30 days from the date of receipt to file an appeal.

Parties who do not file an appeal in accordance with the requirements of 43 CFR part 4 shall be deemed to have waived their rights. Notices of appeal by facsimile will not be accepted as timely filed. Except as modified, the decision of March 11, 2009, notice of which was given March 11, 2009, is final.

Matthew R. Lux,
Land Law Examiner, Adjudication Section.

[FR Doc. 2021-12732 Filed 6-16-21; 8:45 am]

BILLING CODE 4310-JA-P